DEPARTMENT OF THE INTERIOR

National Park Service

Native American Graves Protection and Repatriation Review Committee: Meeting

AGENCY: National Park Service, Interior.

ACTION: Notice.

Notice is hereby given in accordance with the Federal Advisory Committee Act, 5 U.S.C. Appendix (1988), of a meeting of the Native American Graves Protection and Repatriation Review Committee.

General Information:The Native American Graves Protection and Repatriation Review Committee was established by Public Law 101-601 to monitor, review, and assist in implementation of the inventory and identification process and repatriation activities required under the Native American Graves Protection and Repatriation Act (NAGPRA).

Persons wishing further information concerning review committee meetings may contact Dr. Robert Stearns, Manager, National NAGPRA Program, 1849 C Street NW-350 NC, Washington, DC 20240, telephone (202) 343-5266, facsimile (202) 343-5260, e-mail robert_stearns@nps.gov. Transcripts of review committee meetings are available for public inspection approximately eight weeks after each meeting at the office of the Manager, National NAGPRA Program, Native American Graves Protection and Repatriation Review Committee, 800 North Capitol Street NW, Suite 350, Washington, DC 20001.

The protocol for review committee meetings is posted on the National NAGPRA Website (www.cr.nps.gov/nagpra; click “Review Committee,” then click “Procedures”).

Indian tribes, Alaska Native villages and corporations, and Native Hawaiian organizations that are considering visits to museums or Federal agencies in review committee meeting locations for the purpose of transfers of repatriated human remains and cultural items may wish to schedule transfers to coincide with review committee meetings. Note that repatriation transfers may be supported by “repatriation awards” administered under the NAGPRA grants program. Information about NAGPRA grants is posted on the National NAGPRA Website (www.cr.nps.gov/nagpra; click “NAGPRA Grants”).

Tulsa, OK, meeting, May 31, June 1-2, 2002: At the invitation of the University of Tulsa, the review committee will meet on May 31, June 1, and June 2, 2002, at the University of Tulsa, in the Great Hall of the Allen Chapman Activity Center, 600 South College, Tulsa, OK. A University of Tulsa campus map is available online (http://www.utulsa.edu; click “About TU/Visitor Information,” then click “Campus Map”).

The agenda for the meeting will include discussion of regulations on the disposition of culturally unidentifiable human remains; discussion of the NAGPRA grants program; discussion of Federal agency compliance; implementation of the statute in Oklahoma; and consideration of a dispute between the Western Apache NAGPRA Working Group, on behalf of the five federally recognized Apache Tribes in Arizona, and the Denver Art Museum. This dispute was proposed by the Western Apache NAGPRA Working Group.

Meeting sessions will begin at 8:30 a.m. and will end no later than 5:00 p.m. each day. The meeting is open to the public. Meeting space is limited and persons will be accommodated on a first-come, first-served basis. Persons wishing to make a presentation to the review committee should submit a request to do so by April 30, 2002, including a written abstract of your presentation and your contact information. Persons may also submit written statements for consideration by the review committee by April 30, 2002. Requests and statements should be addressed to the review committee in care of the Manager, National NAGPRA Program, and should be sent (1) by mail to the Manager, National NAGPRA Program, National Park Service, 1849 C Street NW-350NC, Washington, DC 20240; or (2) by commercial delivery address to the Manager, National NAGPRA Program, National Park Service, 800 North Capitol Street NW, Suite 350, Washington, DC 20001.

Increased security in the Washington, DC, area may cause delays in the delivery of U.S. Mail to Government offices. In addition to mail or commercial delivery, a copy of the mailed request may also be faxed to the review committee in care of the Manager, National NAGPRA Program, at (202) 343-5260.

No special lodging arrangements have been made for this meeting; accommodations are available in the Tulsa community.

Seattle, WA, meeting, fall 2002: The review committee will meet in the fall of 2002 in Seattle, WA. A notice including final meeting dates, the meeting agenda, and other meeting details will be published in the Federal Register at least 90 days prior to the Seattle, WA, meeting.

Dated: March 11, 2002.
Paula Molloy,
Acting Manager, National NAGPRA Program.

[FR Doc. 02-8574 Filed 4-9-02; 8:45 am]

BILLING CODE 4310-70-S